DEPARTMENT OF AGRICULTURE

Forest Service

Siuslaw Resource Advisory Committee

AGENCY: Forest Service, USDA.

ACTION: Notice of meeting.

SUMMARY: The Siuslaw Resource Advisory Committee will meet in Florence, OR. The purpose of the meeting is to Review RAC FY07 Business, Information Share, Public Forum and 2007 Project Review/Recommendations.

DATES: The meeting will be held June 8, 2006, beginning at 9:30 a.m.

ADDRESSES: The meeting will be held at the Community Baptist Church, 4590 Highway 101, Florence Oregon 97439.

FOR FURTHER INFORMATION CONTACT: Linda Stanley, Community Development Specialist, Siuslaw National Forest, 541/928-7085 or write to Forest Supervisor, Siuslaw national Forest, P.O. Box 1148, Corvallis, OR 97339.

SUPPLEMENTARY INFORMATION: A public input period will begin before 2007 project review.

Dated: May 9, 2006.
Josè Linares,
Forest Supervisor.

[FR Doc. 06-4602 Filed 5-16-06; 8:45 am]

BILLING CODE 3410-11-M